FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel-Operating Common Carrier Ocean Transportation Intermediary Applicants

Network Shipping International, Inc., dba Pillar Trans California, 18726 S. Western Ave., Suite #317, Gardena, CA 90248. Officer: Nicole H. Kim President, (Qualifying Individual).

Union Pacific Logistics, Inc., 767 N. Hill Street, #303, Los Angeles, CA 90012. Officer: Ching Kwow Kam, President, (Qualifying Individual).

GAL (Bos) Inc., 88 Black Falcon Ave., Suite 235, So. Boston, MA 02210. Officers: Kirk Koylon, Treasurer, (Qualifying Individual), Kam L. Ng, President.

Fast Track/Everlast Shipping & Delivery, 5406 Park Heights Ave., Baltimore, MD 21215. Montgomery Davson, Sole Proprietor.

Velocity Freight Inc., 20283 State Road 7, Suite 300, Boca Raton, FL 33498. Officers: Estela De Los Santos, Vice President, (Qualifying Individual), Doug Pacht, President.

Kompas Line, Inc., 206 South Hoover Blvd., Suite 120, Tampa, FL 33609. Officers: Michael J. Batista, Vice President, (Qualifying Individual), George Mitchel, President.

Far-Go Express, Inc., 18725 E. Gale Ave., Bldg. 160, Suite 220, City of Industry, CA 91748. Officer: James Hung-Chieh, Chu, President, (Qualifying Individual).

Oceanic Export Inc., 147 Knollwood Terrace, Clifton, NJ 07012. Officer: Nance Gonzalez, President, (Qualifying Individual).

Direct Services Solutions, Inc., Giralda Farms, Madison Ave., P.O. Box 880, Madison, NJ 07940-0880. Officers: Timothy J. Nolan, Director, (Qualifying Individual), Michael White, Director.

FCL Marine USA, Ltd., 1204 Water Birch Court, Chesapeake, VA 23325. Officer: Sheila J. Worley, President, (Qualifying Individual).

Non-Vessel-Operating Common Carrier and Ocean Freight Forwarder Transportation Intermediary Applicants

ClearPoint International Group LLC, 2425 East 12th Street, Los Angeles, CA 90021. Officers: Arash Raminfar, President, (Qualifying Individual), Alex Raminfar, Vice President.

Chaker, Inc. dba Marina Line dba Folk Shipping Co., 683 E. Royal Ln, #1103, Irving, TX 75039. Officers: Tarek Abdallah, President, (Qualifying Individual), Ziad Abdallah, CFO.

Planes Moving & Storage, Inc., 9823 Cincinnati-Dayton Road, West Chester, OH 45069. Officers: John J. Plnes, CEO, (Qualifying Individual).

Guaranteed International Freight and Trade, Inc., dba International Freight and Trading, 239-241 Kingston Ave., Brooklyn, NY 11213. Officers: Lawrence Medas, Sr., President, (Qualifying Individual), Cornelius Medas, CEO.

Florida Freight Forwarders, LLC, 2041 NW 12th Ave., Miami, FL 33127. Officer: Jose Maria Rivas, Vice President, (Qualifying Individual).

Sunset Transportation, Inc., 11406 Gravois Road, St. Louis, MO 63126. Officers: Deborah L. Kopeny, Director, (Qualifying Individual), James A. Williams.

D.M.C. Logistics Incorporated, 207 Meadow Road, Edison, NJ 08817. Officers: Julia Ertler, Vice President, (Qualifying Individual), Francis S. Molfetta, President.

Cargo Shipping Expedition International Inc., 6 Sandow Court, Fair Lawn, NJ 07410. Officers: Gerry Lysogorsky, Vice President, (Qualifying Individual), Alexander Zilberman, President.

Ocean Freight Forwarder—Ocean Transportation Intermediary Applicants

Hal-Mari International Logistics, Inc., 935 Knotty Elmwood Trail, Houston, TX 77062. Officer: Ilkka Halmari, President, (Qualifying Individual).

Matt Global Freight Co. LLC, 3517 Langrehr Road, Suite 102, Baltimore, MD 21244. Officers: Mathew T. Chacko, President, (Qualifying Individual), Ann T. Mathews, Vice President.

Allfreight Worldwide Cargo, Inc., dba Allfreight, 4810 Beauregard Street, Suite 100, Alexandria, VA 22312. Officers: Demeke Meri, CEO/President, (Qualifying Individual), Abel Meri, Director.

Dated: March 3, 2006.
Karen V. Gregory,
Assistant Secretary.

[FR Doc. E6-3315 Filed 3-8-06; 8:45 am]

BILLING CODE 6730-01-P